DEPARTMENT OF TRANSPORTATION

Federal Aviation Administration

14 CFR Part 39

[Docket No. 2001-NM-287-AD; Amendment 39-12464; AD 2001-20-16]

RIN 2120-AA64

Airworthiness Directives; Airbus Model A319 and A320 Series Airplanes

AGENCY: Federal Aviation Administration, DOT.

ACTION: Final rule; request for comments.

SUMMARY: This amendment adopts a new airworthiness directive (AD) that is applicable to certain Airbus Model A319 and A320 series airplanes. This action requires revising the Airplane Flight Manual to advise the flight crew of performance corrections necessary to ensure adequate runway lengths for certain takeoff and landing conditions. This action is necessary to prevent the airplane from departing the end of the runway during a landing or a rejected takeoff due to reduced braking performance.

DATES: Effective October 26, 2001.

The incorporation by reference of certain publications listed in the regulations is approved by the Director of the Federal Register as of October 26, 2001.

Comments for inclusion in the Rules Docket must be received on or before November 13, 2001.

ADDRESSES: Submit comments in triplicate to the Federal Aviation Administration (FAA), Transport Airplane Directorate, ANM-114, Attention: Rules Docket No. 2001-NM-287-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-287-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: The Direction Générale de l'Aviation Civile (DGAC), which is the airworthiness authority for France, recently notified the FAA that an unsafe condition may exist on Airbus Model A319 and A320 series airplanes equipped with certain Goodrich carbon brakes. The DGAC advises that a Model A320 series airplane departed the end of the runway during landing. Investigation revealed that the airplane's Goodrich brakes did not meet performance specifications. The reduced performance may have been caused by the contamination of the brake wear surfaces by the oxidation inhibitor applied during production and/or a tendency of this particular type of oxidation inhibitor to absorb water. The susceptibility of this oxidation inhibitor to absorb water is exacerbated during a period of inactivity of the airplane brakes (that is, more than 7 sequential days without brake usage). Such reduced braking performance could exist throughout the life of the brakes and, if not corrected, could result in the airplane departing the end of the runway during landing or a rejected takeoff.

Explanation of Relevant Service Information

Airbus has issued A319/320/321 Airplane Flight Manual (AFM) Temporary Revisions (TRs) 5.02.00/60 (for Model A319 series airplanes) and 5.03.00/21 (for Model A320 series airplanes), both Issue 2, both dated September 14, 2001. The TRs provide the flight crew with performance corrections necessary to ensure adequate runway lengths for certain takeoff and landing conditions. The performance corrections are intended to prevent the airplane from departing the end of the runway during a landing or a rejected takeoff due to reduced braking performance. The DGAC classified these TRs as mandatory and issued French airworthiness directive 2001-441(B), dated September 19, 2001, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Rule

Since an unsafe condition has been identified that is likely to exist or develop on other airplanes of the same type design registered in the United States, this AD is being issued to ensure adequate takeoff and landing field lengths to prevent the airplane from departing the end of the runway during a landing or a rejected takeoff due to reduced braking performance. This AD requires a revision to the Limitations section of the FAA-approved AFM to advise the flight crew of performance corrections necessary to ensure adequate runway lengths for certain takeoff and landing conditions.

Difference Between This AD and French Airworthiness Directive

The applicability of this AD includes additional part numbers and modifications not identified by the existing French airworthiness directive. Those additional part numbers and modifications are included in Issue 2 of TRs 5.02.00/60 and 5.03.00/21, cited in this AD as the appropriate sources of information for the revised AFM procedures.

Interim Action

This is considered to be interim action until final action is identified, at which time the FAA may consider further rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket 2001-NM-287-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-20-16 Airbus Industrie: Amendment 39-12464. Docket 2001-NM-287-AD.

Applicability: Model A319 and A320 series airplanes, certificated in any category, equipped with Goodrich carbon brakes having part number 2-1526-4, 2-1526-5, 2-1572, 2-1600-1, or 2-1600-2.

Note 1: Brakes having the affected part numbers may have been installed in production in accordance with Airbus Modification 23597, 24007, 24260, 25810, 30075, or 31146; or in service in accordance with Airbus Service Bulletin A320-32-1090, A320-32-1114, A320-32-1180, A320-32-1221, or A320-32-1228.

Compliance: Required as indicated, unless accomplished previously.

To prevent the airplane from departing the end of the runway during a landing or a rejected takeoff due to reduced braking performance, accomplish the following:

Revision of Airplane Flight Manual (AFM)

(a) Within 10 days after the effective date of this AD, revise the Limitations Section of the FAA-approved AFM by inserting into the AFM a copy of Airbus AFM Temporary Revision (TR) 5.02.00/60 (for Model A319 series airplanes) or TR 5.03.00/21 (for Model A320 series airplanes), both Issue 2, both dated September 14, 2001; as applicable.

Note 2: Reference in TRs 5.02.00/60 and 5.03.00/21 to airplanes stored for a period of “more than 7 days” means a period of more than 7 consecutive days without brake usage.

(b) When the TRs required by paragraph (a) of this AD have been incorporated into the general AFM revisions, the general revisions may be inserted into the AFM, provided the information contained in the general revisions is identical to that specified in the TRs.

Alternative Methods of Compliance

(c) An alternative method of compliance or adjustment of the compliance time that provides an acceptable level of safety may be used if approved by the Manager, International Branch, ANM-116, Transport Airplane Directorate, FAA. Operators shall submit their requests through an appropriate FAA Principal Operations Inspector, who may add comments and then send it to the Manager, International Branch, ANM-116.

Note 3: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The AFM revisions shall be done in accordance with Airbus Airplane Flight Manual Temporary Revision 5.02.00/60, Issue 2, dated September 14, 2001; or Airbus Airplane Flight Manual Temporary Revision 5.03.00/21, Issue 2, dated September 14, 2001; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2001-441(B), dated September 19, 2001.

Effective Date

(f) This amendment becomes effective on October 26, 2001.

Issued in Renton, Washington, on October 3, 2001.
Vi L. Lipski,
Manager, Transport Airplane Directorate, Aircraft Certification Service.

[FR Doc. 01-25393 Filed 10-10-01; 8:45 am]

BILLING CODE 4910-13-U